OFFICE OF PERSONNEL MANAGEMENT

Proposed Collection; Comment Request for Review of an Expiring Information Collection: Declaration for Federal Employment Optional Form 306

AGENCY: Office of Personnel Management.

ACTION: Notice.

SUMMARY: In accordance with the Paperwork Reduction Act of 1995 (Pub. L. 104-13), this notice announces that the Office of Personnel Management intends to submit to the Office of Management and Budget a request for clearance of an expiring information collection. The OF 306 is completed by applicants who are under serious consideration for employment. It is completed early enough in the employment process that if an agency encounters an applicant who did not register with the Selective Service, the agency would have sufficient time to determine if non-registration was done knowingly and willfully prior to making a final employment decision.

Comments are particularly invited on:

• Whether this collection of information is necessary for the proper performance of functions of the Office of Personnel Management.

• Whether our estimate of the public burden of this collection is accurate, and based on valid assumptions and methodology; and

• Ways in which we can minimize the burden of the collection of information on those who are to respond, through use of the appropriate technological collection techniques or other forms of information technology.

It is estimated that 474,000 individuals will respond annually. Each form takes approximately 15 minutes to complete. The annual estimated burden is 118,500 hours.

For copies of this proposal, contact Mary Beth Smith-Toomey on (202) 606-8358, Fax (202) 418-3251 or e-mail to mbtoomey@opm.gov. Please be sure to include a mailing address with your request.

DATES: Comments on this proposal should be received within 60 calendar days from the date of this publication.

ADDRESSES: Send or deliver comments to: Kathy L. Dillaman, Deputy Associate Director, Center for Investigations Services, U.S. Office of Personnel Management, 1900 E Street, NW., Room 5416, Washington, DC 20415.

FOR INFORMATION REGARDING ADMINISTRATIVE COORDINATION CONTACT: Sherry G. Tate, Program Analyst, Program Services Group, Center for Investigations Services, (202) 606-0434.

Office of Personnel Management

Kay Coles James,
Director.

[FR Doc. 03-19705 Filed 8-1-03; 8:45 am]

BILLING CODE 6325-40-P